DEPARTMENT OF TRANSPORTATION

Federal Aviation Administration

14 CFR Part 39

[Docket No. 99-NM-378-AD]

RIN 2120-AA64

Airworthiness Directives; Boeing Model 707 and 720 Series Airplanes

AGENCY: Federal Aviation Administration, DOT.

ACTION: Notice of proposed rulemaking (NPRM).

SUMMARY: This document proposes the adoption of a new airworthiness directive (AD) that is applicable to all Boeing Model 707 and 720 series airplanes. This proposal would require repetitive inspections of certain stringers and around certain fastener holes of the lower skin of the wings to detect fatigue cracking, and repair, if necessary. This action is necessary to detect and correct such cracking and consequent damage to adjacent structure, which could result in reduced structural integrity of the airplane. This action is intended to address the identified unsafe condition.

DATES: Comments must be received by September 25, 2000.

ADDRESSES: Submit comments in triplicate to the Federal Aviation Administration (FAA), Transport Airplane Directorate, ANM-114, Attention: Rules Docket No. 99-NM-378-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-nprmcomment@faa.gov. Comments sent via fax or the Internet must contain “Docket No. 99-NM-378-AD” in the subject line and need not be submitted in triplicate. Comments sent via the Internet as attached electronic files must be formatted in Microsoft Word 97 for Windows or ASCII text.

The service information referenced in the proposed rule may be obtained from Boeing Commercial Airplane Group, P.O. Box 3707, Seattle, Washington 98124-2207. This information may be examined at the FAA, Transport Airplane Directorate, 1601 Lind Avenue, SW., Renton, Washington.

FOR FURTHER INFORMATION CONTACT: James Rehrl, Aerospace Engineer, Airframe Branch, ANM-120S, FAA, Transport Airplane Directorate, Seattle Aircraft Certification Office, 1601 Lind Avenue, SW., Renton, Washington 98055-4056; telephone (425) 227-2783; fax (425) 227-1181.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this notice may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this notice must submit a self-addressed, stamped postcard on which the following statement is made: “Comments to Docket Number 99-NM-378-AD.” The postcard will be date stamped and returned to the commenter.

Availability of NPRMs

Any person may obtain a copy of this NPRM by submitting a request to the FAA, Transport Airplane Directorate, ANM-114, Attention: Rules Docket No. 99-NM-378-AD, 1601 Lind Avenue, SW., Renton, Washington 98055-4056.

Discussion

In 1981, the FAA issued AD 81-11-06 R1, amendment 39-4178 (46 FR 38900), which is applicable to all Boeing Model 707 and 720 series airplanes. That AD was prompted by reports of cracking in the wing lower skin and stringers 5 and 7, and requires certain inspections of the lower skin of the wing and adjacent stringers to detect cracking. Such cracking could result in reduced structural integrity of the airplane. For Model 720 series airplanes, the AD requires low frequency eddy current (LFEC) inspections of the wing lower surface to detect cracks. For Model 707 series airplanes, the AD requires high frequency eddy current (HFEC) and optional LFEC inspections of the wing lower surface to detect cracks.

Actions Since Issuance of Previous Rule

Since the issuance of that AD, the FAA has received a report indicating that the area where cracking was originally detected has expanded to numerous stringers, resulting in complete fracture of stringers 5 and 7 between wing station (WS) 470 and WS 733. In addition, there have been severed stringers at certain weep hole locations. In light of this fact, the manufacturer issued Boeing Alert Service Bulletin A3395, Revision 4, dated October 28, 1999. The FAA has reviewed and approved Revision 4 to the service bulletin, which expands the procedures specified in Revision 3, dated July 17, 1981, by adding an HFEC inspection to examine the area between WS 470 and WS 733 to detect cracking, and expands the current inspection area of stringers 5 and 7 to include the rib chord attachment. Accomplishment of the HFEC inspections specified in the service bulletin eliminates the need for the optional LFEC inspections, as stated above, for Model 707 series airplanes. In addition, the service bulletin describes procedures for inspecting the area around all fastener weep holes to detect cracking. The service bulletin also describes procedures for internal inspections if any cracking is detected. Accomplishment of the actions specified in the service bulletin is intended to adequately address the unsafe condition.

Explanation of Requirements of Proposed Rule

Since an unsafe condition has been identified that is likely to exist or develop on other products of this same type design, the proposed AD would require accomplishment of the actions specified in the service bulletin described previously, except as discussed below.

Difference Between Service Bulletin and Proposed AD

Operators should note that, although the service bulletin specifies that the manufacturer may be contacted for disposition of certain repair conditions, this proposed AD would require the repair of those conditions to be accomplished in accordance with a method approved by the FAA, or in accordance with data meeting the type certification basis of the airplane approved by a Boeing Company Designated Engineering Representative who has been authorized by the FAA to make such findings.

Cost Impact

There are approximately 49 Model 707 and 720 series airplanes of the affected design in the worldwide fleet. The FAA estimates that 2 airplanes of U.S. registry would be affected by this proposed AD, that it would take approximately 56 work hours per airplane to accomplish the proposed inspections, and that the average labor rate is $60 per work hour. Based on these figures, the cost impact of the proposed AD on U.S. operators is estimated to be $3,360, or $6,720 per airplane, per inspection cycle.

The cost impact figure discussed above is based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Boeing: Docket 99-NM-378-AD.

Applicability: All Model 707 and 720 series airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

Compliance: Required as indicated, unless accomplished previously.

To detect fatigue cracking of certain stringers, and around certain fastener holes of the lower skin of the wings, which could result in damage to adjacent structure and consequent reduced structural integrity of the airplane, accomplish the following:

Initial and Repetitive Inspections

(a) For Model 720 series airplanes: Within 500 flight cycles after the effective date of this AD, perform an initial high frequency eddy current (HFEC) inspection to detect cracking, in accordance with Figure 1 of Boeing Alert Service Bulletin A3395, Revision 4, dated October 28, 1999.

(b) For Model 707 series airplanes having fewer than 15,000 total flight cycles as of the effective date of this AD: Prior to the accumulation of 15,000 total flight cycles, or within 150 flight cycles after the effective date of this AD, whichever occurs later, perform an initial HFEC inspection in accordance with Figure 2; steps 1, 2, and 3; of Boeing Alert Service Bulletin A3395, Revision 4, dated October 28, 1999. Repeat the inspection thereafter at intervals not to exceed 1,300 flight cycles. Accomplishment of the repetitive HFEC inspections terminates the low frequency eddy current inspections specified in AD 81-11-06 R1, amendment 39-4178.

(c) For Model 707 series airplanes having 15,000 total flight cycles or more as of the effective date of this AD: Within 150 flight cycles after the effective date of this AD, perform an initial HFEC inspection in accordance with Figure 2; steps 4, 5, and 6; of Boeing Alert Service Bulletin A3395, Revision 4, dated October 28, 1999, and accomplish the requirements in paragraphs (c)(1) and (c)(2) of this AD.

(1) Repeat the inspection thereafter at intervals not to exceed 150 flight cycles until accomplishment of the inspections required by paragraph (c)(2) of this AD.

(2) Within 400 flight cycles after accomplishment of the initial inspection required by paragraph (c) of this AD, accomplish the HFEC inspections required by paragraph (b) of this AD. Accomplishment of these inspections terminates the repetitive inspections required by paragraph (c)(1) of this AD.

Note 2: The actions required by AD 81-11-06 R1, amendment 39-4178 [with the exception of the LFEC inspections, as specified in paragraph (b) of this AD] remain in effect.

Inspect and Repair

(d) If any cracking is detected during any inspection required by this AD, prior to further flight, perform an internal inspection in accordance with the Work Instructions specified in Boeing Alert Service Bulletin A3395, Revision 4, dated October 28, 1999; and, prior to further flight, repair in accordance with a method approved by the Manager, Seattle Aircraft Certification Office (ACO), FAA, Transport Airplane Directorate; or in accordance with data meeting the type certification basis of the airplane approved by a Boeing Company Designated Engineering Representative who has been authorized by the Manager, Seattle ACO, to make such findings. For a repair method to be approved by the Manager, Seattle ACO, as required by this paragraph, the Manager's approval letter must specifically reference this AD.

Alternative Methods of Compliance

(e) An alternative method of compliance or adjustment of the compliance time that provides an acceptable level of safety may be used if approved by the Manager, Seattle ACO. Operators shall submit their requests through an appropriate FAA Principal Maintenance Inspector, who may add comments and then send it to the Manager, Seattle ACO.

Note 3: Information concerning the existence of approved alternative methods of compliance with this AD, if any, may be obtained from the Seattle ACO.

Special Flight Permit

(f) Special flight permits may be issued in accordance with sections 21.197 and 21.199 of the Federal Aviation Regulations (14 CFR 21.197 and 21.199) to operate the airplane to a location where the requirements of this AD can be accomplished.

Issued in Renton, Washington, on August 3, 2000.
Donald L. Riggin,
Acting Manager, Transport Airplane Directorate, Aircraft Certification Service.

[FR Doc. 00-20247 Filed 8-9-00; 8:45 am]

BILLING CODE 4910-13-U